DEPARTMENT OF ENERGY

Federal Energy Regulatory Commission

[Docket No. EL14-81-000]

Golden Spread Electric Cooperative, Inc.; Sharyland Utilities, L.P.; Notice of Petition for Declaratory Order

Take notice that on July 3, 2014, pursuant to Rule 207(a) of the Federal Energy Regulatory Commission's (Commission) Rules of Practice and Procedure, 18 CFR 385.207(a)(2), Golden Spread Electric Cooperative, Inc. and Sharyland Utilities, L.P. (collectively, the Petitioners) filed a petition for declaratory order requesting that the Commission disclaim jurisdiction over: (1) Transmission interconnection facilities delivering power from the Antelope Elk Energy Center located in the State of Texas to the Electric Reliability Council of Texas (ERCOT) electric grid (Transmission Interconnection Facilities), and (2) transmission and sales of energy over the Transmission Interconnection Facilities. In addition, the Petitioners request that the Commission declare that utilities in ERCOT and the Market Participants that are not currently public utilities under the Federal Power Act, will not become public utilities as a result of the interconnection of the Antelope Elk Energy Center, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 4, 2014.

Dated: July 9, 2014.
Kimberly D. Bose,
Secretary.

[FR Doc. 2014-16657 Filed 7-15-14; 8:45 am]

BILLING CODE 6717-01-P